AGENCY FOR INTERNATIONAL DEVELOPMENT

48 CFR Parts 709 and 752

RIN 0412-AA76

Incorporate Various Administrative Changes and Internal Policies in to the USAID Acquisition Regulation (AIDAR)

AGENCY: U.S. Agency for International Development.

ACTION: Direct final rule; Corrections.

SUMMARY: The U.S. Agency for International Development (USAID) is issuing corrections to FR Doc. 2014-26051; Incorporate Various Administrative Changes and Internal Policies in to the USAID Acquisition Regulation (AIDAR), that was published on December 16, 2014 (79 FR 74985).

DATES: Effective March 16, 2015.

FOR FURTHER INFORMATION CONTACT: Lyudmila Bond, Telephone: 202-567-4753 or Email: lbond@usaid.gov.

SUPPLEMENTARY INFORMATION:

Corrections

In rule FR Doc. 2014-26051 published in the Federal Register at 79 FR 74985, December 16, 2015, make the following corrections:

§ 709.403 [Corrected]

1. On page 74992, in the definitions of “Debarring official” and “Suspending Official” in § 709.403, correct “Senior Deputy Assistant Administrator, Bureau for Management” to read “Assistant Administrator, Bureau for Management, or designee as delegated in Agency policy found in ADS 103—Delegations of Authority”.

§ 752.7005 [Corrected]

On page 75002, § 752.7005(b)(1)(iv), remove the second sentence.

Authority: Sec. 621, Pub. L. 87-195, 75 Stat. 445, (22 U.S.C. 2381) as amended; E.O. 12163, Sept. 29, 1979, 44 FR 56673; and 3 CFR 1979 Comp., p. 435.

Aman S. Djahanbani,
Chief Acquisition Officer.

[FR Doc. 2015-05580 Filed 3-11-15; 8:45 am]

BILLING CODE 6116-01-P